DEPARTMENT OF HEALTH AND HUMAN SERVICES

National Institutes of Health

Office of the Secretary; Notice of Meeting

Pursuant to section 10(d) of the Federal Advisory Committee Act, as amended, notice is hereby given of a meeting of the Muscular Dystrophy Coordinating Committee.

The meeting will be open to the public and accessible by teleconference and live WebEx. Members of the public who wish to participate using WebEx should contact the Contact Person listed on this notice for the WebEx details. Individuals who plan to participate and need special assistance, such as reasonable accommodations, should notify the Contact Person listed below in advance of the meeting.

Name of Committee: Muscular Dystrophy Coordinating Committee.

Type of meeting: Open Meeting.

Date: December 5, 2017.

Time: 1:00 p.m. to 2:30 p.m. *Eastern Time*

Agenda: The purpose of this meeting is to bring together committee members, representing government agencies, patient advocacy groups, other voluntary health organizations, and patients and families to update one another on progress relevant to the Action Plan for the Muscular Dystrophies.

Place: National Institutes of Health, 6001 Executive Boulevard, Rockville, MD 20852 (Telephone Conference Call).

Call-In Number: 1-650-479-3208.

Public Access Code: 622 734 375.

Contact Person: Glen Nuckolls, Ph.D., Program Director, National Institute of Neurological Disorders and Stroke, NIH, 6001 Executive Boulevard, Room 2203, Rockville, MD 20892, Phone: (301) 496-5876, Email: nuckollg@ninds.nih.gov.

Prior to the meeting, an agenda will be posted to the MDCC Web site: www.mdcc.nih.gov.

(Catalogue of Federal Domestic Assistance Program Nos. 93.853, Clinical Research Related to Neurological Disorders; 93.854, Biological Basis Research in the Neurosciences, National Institutes of Health, HHS)

Dated: September 26, 2017.
Sylvia L. Neal,
Program Analyst, Office of Federal Advisory Committee Policy.

[FR Doc. 2017-20990 Filed 9-29-17; 8:45 am]

BILLING CODE 4140-01-P